DEPARTMENT OF DEFENSE

Defense Information Systems Agency

Privacy Act of 1974; Systems of Records

AGENCY: Defense Information Systems Agency, DoD.

ACTION: Notice to add two systems of records.

SUMMARY: The Defense Information Systems Agency is proposing to add two systems of records notices to its existing inventory of records systems subject to the Privacy Act of 1974, (5 U.S.C. 552a), as amended.

DATES: This proposed action will be effective without further notice on September 21, 2000, unless comments are received which result in a contrary determination.

ADDRESSES: Privacy Administrator, Defense Information Systems Agency, CI0/D03A, 3701, N. Fairfax Drive, Arlington, VA 22203-1713.

FOR FURTHER INFORMATION CONTACT: Mr. Tommie Gregg at (703) 696-1891.

SUPPLEMENTARY INFORMATION: The Defense Information Systems Agency systems of records notices subject to the Privacy Act of 1974, (5 U.S.C. 552a), as amended, have been published in the Federal Register and are available from the address above.

The proposed system report, as required by 5 U.S.C. 552a(r) of the Privacy Act of 1974, as amended, was submitted on August 11, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 16, 2000.
L.M. Bynum,
Alternate OSD Federal Register Liaison Officer, Department of Defense.

KD3D.01

SYSTEM NAME

Continuity of Operations Plans.

SYSTEM LOCATION:

Defense Information Systems Agency, Continuity of Operations Office (D3D), 701 South Courthouse Road, Arlington, VA 22204-2199.

CATEGORIES OF INDIVIDUALS COVERED BY THIS SYSTEM:

Personnel at Defense Information Systems Agency locations designated to occupy “key” positions that directly support the plan when an emergency situation develops.

CATEGORIES OF RECORDS IN THE SYSTEM:

Individual's name, home address, office/home telephone numbers. It will also contain medical information on designated personnel requiring medication during Continuity of Operations Plan “button up” situations.

AUTHORITY FOR MAINTENANCE OF THE SYSTEM:

5 U.S.C. 301, Departmental Regulations; E.O. 12656, Assignment of Emergency Preparedness Responsibilities; and DoD Directive 3020.26, Continuity of Operations Policy and Planning.

PURPOSE(S):

To apprise designated personnel on the Continuity of Operations Office staff of their responsibilities and relocation assignments in conditions of emergency. This system will incorporate the Continuity of Operations Office plans from agency field offices to create one consolidated agency-wide Continuity of Operations Plan.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DOD as a routine use pursuant to 5 U.S.C. 552a(b)(3) as follows:

The “Blanket Routine Uses set forth at the beginning of the agency”s compilation of systems of records notices apply to this system.

POLICIES AND PRACTICES FOR STORING, RETRIEVING, ACCESSING, RETAINING, AND DISPOSING OF RECORDS IN THE SYSTEM:

STORAGE:

Records are maintained on paper and on electronic media.

RETRIEVABILITY:

Information is retrieved by individual's name.

SAFEGUARDS:

The building in which the plan is housed employs security guards. Records that are maintained are in areas that are accessible only to authorized personnel who are properly screened, cleared, and trained. Access to personal information is restricted to those who require the records in the performance of official duties and to the individuals who are the subjects of the record or their authorized representatives.

Retention and disposal:

Disposition pending. Records will be retained until final disposition authority has been established by the National Archives and Records Administration.

SYSTEM MANAGER AND ADDRESS:

Chief, Defense Information Systems Agency, Continuity of Operations, D3D, 702 South Courthouse Road, Arlington, VA 22204-2199.

NOTIFICATION PROCEDURE:

Individuals seeking to determine whether information about themselves is contained in this system should address written inquiries to the Privacy Administrator, Defense Information Systems Agency, Information Resources Management Division, Office of the Chief Information Officer, 3701 North Fairfax Drive, Arlington, VA 22203-1713.

RECORD ACCESS PROCEDURES:

Individuals seeking access to information about themselves contained in this system should address written inquiries to the Privacy Administrator, Defense Information Systems Agency, Information Resources Management Division, Office of the Chief Information Officer, 3701 North Fairfax Drive, Arlington, VA 22203-1713.

Contesting record procedures:

DISA's rules for accessing records, for contesting contents and appealing initial agency determinations are published in DISA Instruction 210-225-2; 32 CFR part 316; or may be obtained from the Privacy Administrator, Defense Information Systems Agency, Information Resources Management Division, Office of the Chief Information Officer, 3701 North Fairfax Drive, Arlington, VA 22203-1713.

RECORD SOURCE CATEGORIES:

Individual.

EXEMPTIONS CLAIMED FOR THE SYSTEM:

None.

KDTI.01

System name:

Permanent Change of Station Records.

System location:

Research, Development and Acquisition Information Support Directorate, Defense Technical Information Center, 8725 John J. Kingman Road, Suite 0944, Fort Belvoir, VA 22060-6218.

Categories of individuals covered by the system:

All Air Force, Army, Coast Guard, Marine Corps, and Navy officer and enlisted personnel and their family members; DoD civilian employees and their family members.

Categories of records in the system:

Personnel employment/pay records consisting of name, Social Security Number, date of birth, compensation data, service history, and demographic information such as home town and duty station locations. Family member data (spouse and dependent children) such as name, date of birth, sex, Social Security Number, and residence address.

Reassignment data to include change of duty station transactions; service member's entitlement for a move; new duty station location; travel authorization; move schedule; personally owned vehicle shipments; inventory of household goods; and passport information.

Authority for maintenance of the system:

5 U.S.C. 301, Departmental Regulations; 5 U.S.C. Chapter 57; 10 U.S.C. 3013, Secretary of the Army; 10 U.S.C. 5013, Secretary of the Navy; 10 U.S.C. 8013, Secretary of the Air Force; and E.O. 9397 (SSN).

Purpose(s):

To provide an interactive electronic database which authorized personnel can access for purposes of conducting on-line permanent change of duty transactions, to include but not limited to entitlement calculations; electronic funds transfers; inventorying, shipment, storage, and delivery of household goods; transportation of the individual and family members; shipment of personally owned vehicles; and housing applications.

To permit personnel to obtain the current status of each transaction and to update those records associated with specific moves.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DISA's compilation of systems of records notices apply to this system.

Policies and practices for storing, retrieving, accessing, retaining, and disposing of records in the system:

Storage:

Records will be stored in electronic storage media.

Retrievability:

Retrieval of records will be accomplished by name, Social Security Number, and/or PIN. Individuals will be provided a PIN to enable them to obtain the status of their duty station move and update individual move-related records.

Safeguards:

Information will be electronically protected by secure transmission and accessible only to authorized personnel. Access to personal information is restricted to those who require the records in performance of their official duties, and to individuals who are the subjects of the record or their authorized representatives. Access to personal information is further restricted by the use of a PIN.

Retention and disposal:

Disposition pending. Records will be retained until final disposition authority has been established by the National Archives and Records Administration.

System manager(s) and address:

Director, Research Development and Acquisition Information Support Directorate, Defense Technical Information Center, 8725 John J. Kingman Road, Suite 0944, Fort Belvoir, VA 22060-6218.

Notification procedure:

Individuals seeking to determine whether this system of records contains information about themselves should address written inquiries to the Privacy Administrator, Information Resources Management Division, Office of the Chief Information Officer, 3701 North Fairfax Drive, Arlington, VA 22203-1713.

Record access procedures:

Individuals seeking access to information about themselves, contained in this system should address written inquiries to the Privacy Administrator, Information Resources Management Division, Office of the Chief Information Officer, 3701 North Fairfax Drive, Arlington, VA 22203-1713.

Written requests should contain the full name of the individual, Social Security Number, their current address, and telephone number.

Contesting record procedures:

DISA's rules for accessing records, for contesting contents and appealing initial agency determinations are published in DISA Instruction 210-225-2; 32 CFR part 316; or may be obtained from the Privacy Administrator, Defense Information Systems Agency, Information Resources Management Division, Office of the Chief Information Officer, 3701 North Fairfax Drive, Arlington, VA 22203-1713.

Record source categories:

The individual and Defense Manpower Data Center.

Exemptions claimed for the system:

None.

[FR Doc. 00-21271 Filed 8-21-00; 8:45 am]

BILLING CODE 5001-10-F